DEPARTMENT OF HEALTH AND HUMAN SERVICES

National Committee on Vital and Health Statistics; Nominations

AGENCY: Office of the Secretary, HHS.

ACTION: Notice of nominations.

SUMMARY: The purpose of this notice is to solicit nominations for membership on the National Committee on Vital and Health Statistics (NCVHS). The NCVHS is the statutory public advisory body to the U.S. Department of Health and Human Services (HHS) in the areas of health data policy, data standards, health information privacy, population-based data and HIPAA Administrative Simplification. The Committee has also been assigned additional advisory responsibilities in health data standards and health information privacy as a result of the Administrative Simplification Compliance Act, the Medicare Modernization Act and the Affordable Care Act.

Several vacancies are expected to occur on the Committee as of December 2010. Accordingly, the Secretary of Health and Human Services will appoint new members of the Committee to terms of up to four years from among persons who have distinguished themselves in the following fields: Health statistics, electronic interchange of health care information, privacy and security of electronic information, population-based public health, purchasing or financing health care services, integrated computerized health information systems, health services research, consumer interests in health information, health data standards, epidemiology, and the provision of health services.

In appointing members, the Department will give close attention to equitable geographic distribution and to minority and female representation. Appointments will be made without discrimination on the basis of age, race, gender, sexual orientation, HIV status, cultural, religious or socioeconomic status.

DATES: Nominations for new members should include a letter describing the qualifications of the nominee and the nominee's current resume or vitae. The information submitted must include complete name, title, and current address and telephone number. The closing date for nominations is close of business, October 22, 2010.

Nominations should be sent to the person named below.

James Scanlon, Executive Staff Director, National Committee on Vital and Health Statistics, U.S. Department of Health and Human Services, Room 442-E, 200 Independence Avenue, SW., Washington, DC 20201, (202) 690-7100.

FOR FURTHER INFORMATION CONTACT: James Scanlon (202) 690-7100 or Marjorie Greenberg (301) 458-4245. Additional information about the NCVHS, including the charter, current roster, current activities and organization, and previous recommendations and reports is available on the NCVHS Web site: http://www.ncvhs.hhs.gov.

SUPPLEMENTARY INFORMATION:

The National Committee on Vital and Health Statistics serves as the statutory public advisory body to the Department of Health and Human Services in the area of health data policy. In that capacity, the Committee, which celebrated its 60th anniversary this year, provides advice and assistance to the Department on a variety of key health data issues, including health data standards, privacy, population-based-data, and national health information infrastructure issues.

The Committee also provides advice to HHS on the implementation of the Administrative Simplification requirements of the Health Insurance Portability and Accountability Act of 1996. The Committee consists of 18 members: Of the 18 members, one is appointed by the Speaker of the House of Representatives after consultation with the minority leader of the House of Representatives; one is appointed by the President pro tempore of the Senate after consultation with the minority leader of the Senate, and 16 are appointed by the Secretary of Health and Human Services.

Dated: September 21, 2010.
Sherry Glied,
Assistant Secretary for Planning and Evaluation.

[FR Doc. 2010-24597 Filed 9-29-10; 8:45 am]

BILLING CODE 4151-05-P